DEPARTMENT OF COMMERCE

National Oceanic and Atmospheric Administration

[I.D. 091800C]

American Fisheries Act Vessel Monitoring System

AGENCY: National Oceanic and Atmospheric Administration (NOAA).

ACTION: Proposed collection; Comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before November 20, 2000.

ADDRESSES: Direct all written comments to Madeleine Clayton, Departmental Forms Clearance Officer, Department of Commerce, Room 6086, 14th and Constitution Avenue NW., Washington DC 20230 (or via Internet at MClayton@doc.gov).

Requests for additional information or copies of the information collection instrument(s) and instructions should be directed to Patsy A. Bearden, National Marine Fisheries Service, Alaska Region, P.O. Box 21668, Juneau, Alaska 99802, telephone number 907-586-7008.

FOR FURTHER INFORMATION CONTACT: Telephone number 907-586-7008.

SUPPLEMENTARY INFORMATION:

I. Abstract

The National Marine Fisheries Service (NMFS) plans to implement a vessel monitoring system (VMS) for participants in the American Fisheries Act pollock fishery in the Bering Sea -Aleutian Islands. Participants would be required to purchase and install a NMFS-approved VMS unit on their vessels. The unit would automatically transmit the vessel’s position in real time to the NMFS, Office of Law Enforcement in Juneau Alaska.

II. Method of Collection

Respondents would comply with requirements to be set forth in 50 CFR part 679. No specific forms would be required.

Respondents would be required to ensure that the unit transmits vessel position as specified in the regulations.

III. Data

OMB Number:None.

Form Number: None.

Type of Review: Regular submission.

Affected Public: Business or other for-profit organizations.

Estimated Number of Respondents: 150.

Estimated Time Per Response: 5 seconds.

Estimated Total Annual Burden Hours: 2,700.

Estimated Total Annual Cost to Public: $54,000.

IV. Request for Comments

Comments are invited on: (a) Whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 14, 2000.
Madeleine Clayton,
Departmental Forms Clearance Officer, Office of Chief Information Officer.

[FR Doc. 00-24302 Filed 9-20-00; 8:45 am]

BILLING CODE: 3510-22-S